DEPARTMENT OF TRANSPORTATION

Federal Aviation Administration

Notice of Intent To Request Renewal From the Office of Management and Budget (OMB) of Three Current Public Collections of Information

AGENCY: Federal Aviation Administration (FAA), DOT.

ACTION: Notice.

SUMMARY: In compliance with the Paperwork Reduction Act (44 U.S.C. 3501 et seq.), the FAA invites public comment on three currently approved public information collection that will be submitted to OMB for renewal

DATES: Comments must be received on or before June 28, 2002.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0015, Airport Master Record. 49 USC 329(b) empowers and directs the Secretary of Transportation to collect and disseminate information on civil aeronautics. Aeronautical information is required by the FAA in order to carry out FAA missions related to safety, flight planning, forecasting, airport engineering, and Federal grants analyses. The database is the basic source of information for private, state, Federal and government aeronautical charts and publications. The current estimated annual reporting burden is 4,355 hours.

2. 2120-0572, Operating Procedures for Airport Traffic Control Towers (ATCT) That Are Not Operated By or Under Contract with the U.S. (Non-Federal). The intent of the Advisory Circular and this collection of information is to maintain a high level of air safety without regulating certain entities that previously were not regulated. The FAA is requesting operators of non-Federal ATCT to comply voluntarily with the regulations as stated in this AC, as well as to submit information voluntarily by using the listed forms, as do FAA Air Traffic personnel. The current estimated annual reporting burden is 1,606 hours.

3. 2120-0648, Certification: Airmen Other Than Flight Crewmembers—Part 65; Aircraft Dispatches—Subpart C; and Aircraft Dispatcher Courses—Appendix A. Under the authority of Title 49 USC, Section 44703 specifically empowers the Secretary of Transportation to issue airmen certificates to properly qualified persons. This request covers the burden for certificate for aircraft dispatchers. The current estimated annual reporting burden is 3,911 hours.

Issued in Washington, DC on April 22, 2002.
Steve Hopkins,
Manager, Standards and Information Division, APF-100.

[FR Doc. 02-10502 Filed 4-26-02; 8:45 am]

BILLING CODE 4910-13-M